DEPARTMENT OF AGRICULTURE

Submission for OMB Review; Comment Request

March 17, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 21, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Risk Management Agency

Title: Area Risk Protection Insurance.

OMB Control Number: 0563-0083.

Summary of Collection: The Federal Crop Insurance Corporation (FCIC) is a wholly-owned Government corporation created February 16, 1938 (7 U.S.C. 1501). The program was amended previously, but Public Law 96-365, dated September 26, 1980, provided for nationwide expansion of a comprehensive crop insurance program. The Federal Crop Insurance Act, as amended in later years further expanded this role of the crop insurance program to be the principal tool for risk management by producers of agricultural commodities. Barley, corn, cotton, forage production, grain sorghum, soybeans, oysters, popcorn, rice and wheat are crops insured under the Area Risk Protection Insurance (ARPI) policy.

Need and Use of the Information: ARPI includes three separate plans of insurance: (1) Area Revenue Protection which protects against price declines and automatically includes Upside Harvest Price Protection (UHPP) which protects against price increases; (2) ARP with the Harvest Price Exclusion, which excludes UHPP and protects against price declines but not against price increases; and (3) Area Yield Protection which only protects against loss of yield.

Using a wide range of data elements producers are required to report specific data when they apply for ARPI such as acreage and yields. Insurance companies accept applications; issue policies; establish and provide insurance coverage; compute liability, premium, subsidies, and losses; indemnify producers; and report specific data to FCIC as required in Appendix III/M13 Handbook.

If producers and insurance companies did not submit the required data at the specified time, accurate liabilities, premium, and subsidies may not be determined, errors may not be resolved timely, producers may not receive accurate indemnities, payments may be late, crop insurance may not be actuarially sound as mandated by the Act.

Description of Respondents: Producers and insurance companies.

Number of Respondents: 25,432.

Frequency of Responses: Weekly, monthly, quarterly, annually, semi-annually.

Total Burden Hours: 98,322.

Risk Management Agency

Title: Subpart U-Ineligibility for Programs under the Federal Crop Insurance Act.

OMB Control Number: 0563-0085.

Summary of Collection: The Federal Crop Insurance Corporation (FCIC) is a wholly-owned Government corporation created February 16, 1938 (7 U.S.C. 1501). The program was amended previously, but Public Law 96-365, dated September 26, 1980, provided for nationwide expansion of a comprehensive crop insurance program. The Federal Crop Insurance Act, as amended in later years further expanded this role of the crop insurance program to be the principal tool for risk management by producers of agricultural commodities.

Need and Use of the Information: The purpose of collecting the information is to ensure persons that are ineligible for benefits under the Federal crop insurance program are accurately identified as such and do not obtain benefits to which they are not eligible. Person can become ineligible for benefits for three reasons: (1) Debt on unpaid premium or overpaid indemnity (information provided by AIP; (2) Debt on unpaid CAT fee (information provided by AIP); and (3) Debarment/disqualification/suspension, including but not limited to judgement, civil fines, etc. The Federal Crop Insurance Corporation and AIPs use the information collected to determine whether person seeking to obtain Federal crop insurance coverage are ineligible for such coverage according to the statutory/regulatory mandates identified.

Description of Respondents: Business, or other for profit.

Number of Respondents: 18.

Frequency of Responses: Monthly, quarterly, on occasion.

Total Burden Hours: 1,841.

Charlene Parker,
Departmental Information Clearance Officer.

[FR Doc. 2017-05697 Filed 3-21-17; 8:45 am]

BILLING CODE 3410-08-P